DEPARTMENT OF DEFENSE

Office of the Secretary

[Docket ID: DoD-2015-OS-0055]

Proposed Collection; Comment Request

AGENCY: Defense Logistics Agency (DLA), DoD.

ACTION: Notice.

SUMMARY: In compliance with the Paperwork Reduction Act of 1995, the Defense Logistics Agency (DLA) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 27, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Logistics Agency, Program Executive Office, 4800 Mark Center Drive—Suite 09E04, Alexandria, VA 22350, ATTN: Mr. Sheldon Soltis, 571-372-3325.

SUPPLEMENTARY INFORMATION:

Title; Associated Form(S); and OMB Number: Defense Information Security System (DISS) Family of Systems (FoS); OMB Number 0704-XXXX.

Needs and Uses: DISS requires personal data collection to facilitate the initiation, investigation and adjudication of information relevant to DoD security clearances and employment suitability determinations for active duty military, civilian employees and contractors requiring such credentials. As a Personnel Security System it is the authoritative source for clearance information resulting in accesses determinations to sensitive/classified information and facilities. Specific uses include: Facilitation for DoD Adjudicators and Security Managers to obtain accurate up-to-date eligibility and access information on all personnel (military, civilian and contractor personnel) adjudicated by the DoD. The DoD Adjudicators and Security Managers are also able to update eligibility and access levels of military, civilian and contractor personnel nominated for access to sensitive DoD information.

Affected Public: Individuals and Federal Government.

Annual Burden Hours: 666,666.

Number of Respondents: 20,000.

Responses per Respondent: 100.

Average Burden per Response: 20 minutes.

Frequency: On occasion.

To comply with the Intelligence Report and Terrorism Prevention Act (IRTPA) of 2004, the Defense Information System for Security (DISS) program was established to design and implement an IT system to support Security and Suitability processes across the Department of Defense (DoD). Through an incremental approach, DISS will, in the future, replace legacy security clearance systems by phasing in new or enhanced systems as part of the DISS Family of Systems (FoS). The records within these applications are used for personnel security, suitability, fitness, access management, continuous evaluation of the subject, and National Security by providing a common, comprehensive medium to record, document, and store investigation and adjudicative documentation and adjudicative actions within the Department, federal agencies, non-DOD, and DOD contractors. These applications will provide an evaluation status, outcome, and updates of investigative and adjudicative actions and decisions from trusted information providers, requestors; provides the ability for visit requests; subjects to self-report required information; and/or provides the ability for the subjects to be continuously evaluated for the subject's security clearance. It will also be used to compile statistical data used for analyses and studies. Decentralized access is authorized at the adjudication facilities, personnel security interfaces, services, DOD Component, approved Non-DoD agencies, and Industry security offices with a DD254 and Industry who is directly supporting continuous evaluation.

The DISS has also been designated as the repository for adjudicative results for Suitability and HSPD-12 determinations by the 13 July 2011 USD(I) memo “Storage of Adjudicative Results in the Defense Information System for Security.” The DISS (CATS) has been designated as the DoD non-Intelligence Community IT system for case management and adjudications by the 10 April 2009 USD(I) memo “Designation of the DoD Case Management and Adjudication Systems.” Currently, CATS processes over 500,000 cases annually; electronically producing favorable adjudicative decisions for approximately 24% of Secret level cases. Further, the 3 May 2012 Deputy Secretary of Defense Memo “DoD Central Adjudication Facilities (CAF) Consolidation” consolidated all DoD Central Adjudication Facilities (CAF) into one consolidated DoD CAF responsible for personnel security adjudicative functions as well as favorable Suitability and HSPD-12 adjudications. The DISS (CATS) is the DOD CAF's designated IT case management system.

Respondents are Facility Security Managers or DoD Adjudicators who update eligibility and access levels of military, civilian and contractor personnel nominated for access to sensitive DoD information. DISS will be the authoritative source for clearance information resulting in accesses determinations to sensitive/classified information and facilities. Collection and maintenance of personal data in DISS is required to facilitate the initiation, investigation and adjudication of information relevant to DoD security clearances and employment suitability determinations for active duty military, civilian employees and contractors requiring such credentials.

Dated: May 20, 2015.
Aaron Siegel,
Alternate OSD Federal Register Liaison Officer, Department of Defense.

[FR Doc. 2015-12621 Filed 5-22-15; 8:45 am]

BILLING CODE 5001-06-P